DEPARTMENT OF AGRICULTURE

Rural Utilities Service

Earth Resources, Inc.: Notice of Availability of an Environmental Assessment

AGENCY: Rural Utilities Service, USDA.

ACTION: Notice of availability of an Environmental Assessment for public review.

SUMMARY: The Rural Utilities Service, an agency which administers the U.S. Department of Agriculture's Rural Development Utilities Programs (USDA Rural Development) has prepared an Environmental Assessment (EA) related to possible financial assistance to Earth Resources, Inc. (ERI) for the proposed construction of Plant Carl, a 20-megawatt electric power generation plant proposed to be built by Earth Resources, Inc. (ERI) in Franklin County, Georgia. ERI is requesting the USDA Rural Development to provide financial assistance for the proposed project.

DATES: Written comments on this Notice must be received on or before February 12, 2007.

ADDRESSES: The EA will be available for public review at the USDA Rural Development, Utilities Programs, 1400 Independence Avenue, SW., Mail Stop 1571, Washington, DC 20250-1571; at the USDA Rural Development's Web site— http://www.usda.gov/rus/water/ees/ea.htm; at ERI's headquarters office located at 774 Highway 320, Carnesville, Georgia 30521; and two Franklin County Public Library locations:

Lavonia Carnegie Library, 28 Hartwell Road, Lavonia, Georgia 30553.

Royston Public Library, 684 Franklin Springs Street, Royston, Georgia 30662.

Written comments should be sent to: Ms. Stephanie Strength, Environmental Protection Specialist, USDA, Rural Development, Utilities Programs, Engineering and Environmental Staff, 1400 Independence Avenue, SW., Mail Stop 1571, Washington, DC 20250-1571, or e-mail: Stephanie.strength@wdc.usda.gov.

FOR FURTHER INFORMATION CONTACT: Stephanie Strength, Environmental Protection Specialist, USDA, Rural Development, Utilities Programs, Engineering and Environmental Staff, 1400 Independence Avenue, SW., Mail Stop 1571, Washington, DC 20250-1571, Telephone: (202) 720-0468. Ms. Strength's e-mail address is stephanie.strength@wdc.usda.gov.

SUPPLEMENTARY INFORMATION: The proposed project area is located in Franklin County, Georgia. The proposal will be sited on a previously graded five acre portion of a 139-acre property zoned Commercial and Industrial. The proposal includes the generation plant and accessory structures, fuel storage and handling areas, traffic circulation and parking areas, waste holding areas, and stormwater management features. Approximately ten additional acres will be devoted to a spray application water treatment system for which no new clearing and grading will be required. The remaining acres will be maintained as natural area buffers.

Alternatives considered by the USDA Rural Development and ERI included: (a) No action, (b) alternate locations, (c) alternate methods to provide service, (d) alternate construction methods and materials, (e) alternate designs, (f) load management and energy conservation options, and (g) alternate generation technologies. An Environmental Report that described the proposed project in detail and discussed its anticipated environmental impacts has been accepted by USDA Rural Development as the EA for the proposed project. The EA is available for public review at addresses provided above in this Notice.

Questions and comments should be sent to Ms. Stephanie Strength, USDA Rural Development at the mailing or e-mail addresses provided above in this Notice. The USDA Rural Development should receive comments on the EA in writing by February 12, 2007 to ensure that they are considered in the environmental impact determination.

Should the USDA Rural Development determine, based on the EA, that the impacts of the construction and operation of the project would not have a significant environmental impact, it will prepare a Finding of No Significant Impact. Public notification of a Finding of No Significant Impact would be published in the Federal Register and in newspapers with circulation in the project area.

Any final action by the USDA Rural Development related to the proposed project will be subject to, and contingent upon, compliance with all relevant Federal, State and local environmental laws and regulations, and completion of the environmental review requirements as prescribed in the USDA Rural Development's Environmental Policies and Procedures (7 CFR part 1794).

Mark S. Plank,
Director, Engineering and Environmental Staff, USDA/Rural Development/Utilities Programs.

[FR Doc. E7-217 Filed 1-10-07; 8:45 am]

BILLING CODE 3410-15-P